DEPARTMENT OF HEALTH AND HUMAN SERVICES

Centers for Medicare & Medicaid Services

[Document Identifier: CMS-10390]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Hospice Quality Reporting Program; Use: Section 1814(i)(5) of the Social Security Act (the Act) added by section 3004 of the Patient Protection and Affordable Care Act, Public Law 111-148, enacted on March 23, 2010 (Affordable Care Act) authorizes the Secretary to establish a quality reporting for hospices. Section 1814(i)(5)(A)(i) of the Act requires the Secretary, beginning with FY 2014, reduce the market basket update by 2 percentage points for any hospice that does not comply with the quality data submission requirements with respect to that fiscal year.

The Hospice Quality Data Submission Form was created for hospice providers to collect specified quality data and submit that data to CMS, for the data collection period starting October 1, 2012, through December 31, 2012, and continuing on a calendar year thereafter. Webinar training on data collection and data submission has been and will continue to be provided by CMS. Use of the Hospice Quality Data Submission Form is necessary in order for hospices to submit the quality data specified for the Hospice Quality Reporting Program. Form Number: CMS-10390 (OCN: 0938-1153); Frequency: Yearly; Affected Public: Individuals and households; Number of Respondents: 3632; Total Annual Responses: 7264; Total Annual Hours: 657,392. (For policy questions regarding this collection contact Robin Dowell at 410-786-0060. For all other issues call 410-786-1326.)

To obtain copies of the supporting statement and any related forms for the proposed paperwork collections referenced above, access CMS' Web Site address at http://www.cms.hhs.gov/PaperworkReductionActof1995, or email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by August 3, 2012:

1. Electronically. You may submit your comments electronically to http://www.regulations.gov. Follow the instructions for “Comment or Submission” or “More Search Options” to find the information collection document(s) accepting comments.

2. By regular mail. You may mail written comments to the following address:

CMS, Office of Strategic Operations and Regulatory Affairs, Division of Regulations Development, Attention: Document Identifier/OMB Control Number, Room C4-26-05, 7500 Security Boulevard, Baltimore, Maryland 21244-1850.

Dated: May 29, 2012.
Martique Jones,
Director, Regulations Development Group, Division B, Office of Strategic Operations and Regulatory Affairs.

[FR Doc. 2012-13402 Filed 6-1-12; 8:45 am]

BILLING CODE 4120-01-P